DEPARTMENT OF THE INTERIOR

Bureau of Reclamation

Closure Order Establishing Prohibitions at Keswick Lake, California

AGENCY: Bureau of Reclamation, Interior.

ACTION: Notice of closure.

SUMMARY: Purpose Of Closure Order: This closure order is issued to provide for the protection of federal property and to ensure public safety at Reclamation facilities.

Closure Areas: The following facilities, lands, and waters are closed to the public: Keswick Dam Road crossing the crest of Keswick Dam, and adjacent property, buildings, and facilities under the control of Reclamation. The closure area includes the area within 500 feet upstream and 600 feet downstream of Keswick Dam for the entire width of the reservoir surface at high mean water upstream, and 600 feet on either side of the entire width of the dam downstream.

DATES: The entire closure area is to remain closed effective December 31, 2004, and remain closed indefinitely except as permitted as described below.

ADDRESSES: A map is available for inspection at Reclamation's Northern Area Office, located at 16349 Shasta Dam Blvd., Shasta Lake, California, 96019.

FOR FURTHER INFORMATION CONTACT: Bureau of Reclamation, Mid-Pacific Region Public Affairs Office at 916-978-5100.

SUPPLEMENTARY INFORMATION: Prohibited Acts: The following acts are prohibited in the closure area.

A. Operating a motorized vehicle of any kind, including stopping, standing, or parking in the closure area.

Limited Exceptions: Motor vehicles may be operated across the crest of Keswick Dam 24 hours a day in compliance with all signs and other directions posted or disclosed. This limited exception to the closure order may be revoked at any time to meet operational, security, or safety concerns as determined by the area manager or his/her designee.

General Exception: Reclamation employees acting within the scope of their employment; operations, maintenance, and construction personnel that have express written authorization from Reclamation; law enforcement and fire department officials; ambulances and others who have received express written authorization to enter the closure area.

B. Entering the closure area on foot, on bicycle, or by any other means.

Limited Exceptions: Pedestrians and bicyclist may enter that portion of the closure area that crosses the crest of Keswick Dam on the roadway or walkway across the dam. All persons shall comply with all signs and other directions as posted or disclosed. This limited exception to the closure order may be revoked at any time to meet operational, security, or safety concerns as determined by the area manager or his/her designee. Reclamation employees acting within the scope of their employment; operations, maintenance, and construction personnel that have express authorization from Reclamation; law enforcement and fire department officials; and others who have received express written authorization from Reclamation to enter the closure area.

C. Operating a vessel or watercraft of any kind, swimming, or scuba diving.

Limited Exceptions: Reclamation employees acting within the scope of their employment; operations, maintenance, and construction personnel that have express authorization from Reclamation; law enforcement and fire department officials; and other who have received express written authorization from Reclamation to enter the closure area.

D. Carrying or discharging firearms.

Exceptions: Law Enforcement, i.e. Federal, state, and local agencies and others who have received express written authorization from Reclamation to enter the closure area.

E. Carrying or using any other type of weapons, including explosives of any kind.

F. Fires.

G. Vandalism or destroying, injuring, defacing, or damaging property or real property that is not under one's lawful control or possession.

This order is posted in accordance with 43 CFR 423.3(b). Violation of the prohibition or any prohibition listed in 43 CFR part 423 is punishable by fine or imprisonment for not more then 6 months, or both.

Dated: November 10, 2004.
Michael J. Ryan,
Area Manager, Northern California Area Office, Mid-Pacific Region.

[FR Doc. 04-27522 Filed 12-15-04; 8:45 am]

BILLING CODE 4310-MN-P